DEPARTMENT OF HEALTH AND HUMAN SERVICES

Substance Abuse and Mental Health Services Administration

Agency Information Collection Activities: Submission for OMB Review; Comment Request

Periodically, the Substance Abuse and Mental Health Services Administration (SAMHSA) will publish a list of information collection requests under OMB review, in compliance with the Paperwork Reduction Act (44 U.S.C. Chapter 35). To request a copy of these documents, call the SAMHSA Reports Clearance Officer on (301) 443-7978.

Mandatory Guidelines for Federal Workplace Drug Testing Programs (0930-0158, revision)

SAMHSA is requesting OMB approval for the Federal Drug Testing Custody and Control Form for Federal agency and federally regulated drug testing programs which must comply with the HHS Mandatory Guidelines for Federal Workplace Drug Testing Programs (59 FR 29908) dated June 9, 1994,and for the information provided by laboratories for the National Laboratory Certification Program (NLCP). The Federal Drug Testing Custody and Control Form is used by all Federal agencies and employers regulated by the Department of Transportation to document the collection and chain of custody of urine specimens at the collection site, for laboratories to report results, and for Medical Review Offices to make a determination.

The Federal Drug Testing Custody and Control Form is being revised. Major changes include eliminating the split specimen copy, simplifying the chain of custody requirements, revising the outcomes for the laboratory test results, revising the collection instructions, and ensuring that the form follows the sequence of events. Prior to an inspection, a laboratory is required to submit specific information regarding its laboratory procedures to allow inspectors to become familiar with a laboratory's procedures before arriving at the laboratory.

The annual total burden estimates for the Federal Drug Testing Custody and Control Form, the NLCP application, the NLCP inspection checklist, and NLCP recordkeeping requirements is 1,790,664 hours.

Form/respondent | Burden/response (hrs.) | Number of responses | Total annual burden (hrs.)
Custody and Control Form:
Donor | .08 | 7,093,000 | 567,440
Collector | .07 | 7,093,000 | 496,510
Laboratory | .05 | 7,093,000 | 354,650
Medical Review Officer | .05 | 7,093,000 | 354,650
Laboratory Application | 3.00 | 2 | 6
Laboratory Inspection Checklist | 3.00 | 136 | 408
Laboratory Recordkeeping | 250.00 | 68 | 17,000
Total |  |  | 1,790,664

Written comments and recommendations concerning the proposed information collection should be sent within 30 days of this notice to: Allison Eydt, Human Resources and Housing Branch, Office of Management and Budget, New Executive Office Building, Room 10235, Washington, D.C. 20503.

Dated: March 31, 2000.
Richard Kopanda,
Executive Officer, SAMHSA.

[FR Doc. 00-8624 Filed 4-6-00; 8:45 am]

BILLING CODE 4162-20-P